DEPARTMENT OF TRANSPORTATION

Federal Transit Administration

49 CFR Part 605

[Docket No. FTA-99-5082]

RIN 2132-AA67

School Bus Operations; Amendment of Tripper Service Definition; Correction

AGENCY: Federal Transit Administration (FTA), DOT.

ACTION: Withdrawal of rulemaking; correction.

SUMMARY: The Federal Transit Administration (FTA) published a document in the Federal Register of January 28, 2005, withdrawing a notice of proposed rulemaking relating to its School Bus Operations regulation. This document misidentified the Regulation Identifier Number (RIN).

FOR FURTHER INFORMATION CONTACT: Elizabeth Martineau, 202-366-1936.

Correction

In the Federal Register of January 28, 2005, in FR Doc. 05-1644 on page 4081, in the heading section, correct the Regulation Identifier Number (RIN) to read:

RIN 2132-AA67

Dated: January 28, 2005.
Scott A. Biehl,
Assistant Chief Counsel for Legislation and Rulemaking.

[FR Doc. 05-2022 Filed 2-2-05; 8:45 am]

BILLING CODE 4910-57-M